OFFICE OF SCIENCE AND TECHNOLOGY POLICY

Request for Public Comment on the Draft 2010 National Nanotechnology Initiative Strategic Plan

AGENCY: White House Office of Science and Technology Policy.

ACTION: Notice: request for public comment.

SUMMARY: With this notice, the White House Office of Science and Technology Policy and the Nanoscale Science, Engineering, and Technology Subcommittee of the National Science and Technology Council request comments from the public regarding the draft 2010 National Nanotechnology Initiative (NNI) Strategic Plan. The draft plan is posted at http://strategy.nano.gov. Comments of approximately one page or less in length (4,000 characters) are requested. This request will be active from November 1, 2010 to November 30, 2010.

DATES: Comments are invited beginning November 1, 2010 and must be received by 11:59 p.m. EST on November 30, 2010.

ADDRESSES: Respondents are encouraged to register online at the NNI Strategy Portal at http://strategy.nano.gov to post their comments (4,000 characters or less) as a response to the request for public comment. Alternatively, comments of one page in length or less may be submitted via e-mail to: nnistrategy@ostp.gov. Please do not include in your comments information of a confidential nature, such as sensitive personal information or proprietary information.

Overview: The National Nanotechnology Initiative (NNI) Strategic Plan is the framework that underpins the nanotechnology work of the NNI member agencies. It aims to ensure that advances in nanotechnology research and development (R&D) and their applications to agency missions and the broader national interest continue unabated in this still-young field. Its purpose is to facilitate achievement of the NNI vision by laying out targeted guidance for agency leaders, program managers, and the research community regarding planning and implementation of nanotechnology R&D investments and activities.

The NNI is a U.S. Government R&D program of 25 agencies working together toward the common challenging vision of a future in which the ability to understand and control matter at the nanoscale leads to a revolution in technology and industry that benefits society. The combined, coordinated efforts of these agencies have accelerated discovery, development, and deployment of nanotechnology towards agency missions and the broader national interest. Established in 2001, the NNI involves nanotechnology-related activities by the 25 member agencies, 15 of which have budgets for nanotechnology R&D for Fiscal Year (FY) 2011.

The NNI is managed within the framework of the National Science and Technology Council (NSTC), the Cabinet-level council that coordinates science and technology across the Federal government and interfaces with other sectors. The Nanoscale Science, Engineering, and Technology (NSET) Subcommittee of the NSTC coordinates planning, budgeting, program implementation, and review of the NNI. The NSET Subcommittee is composed of senior representatives from agencies participating in the NNI (http://www.nano.gov).

The NSET Subcommittee has solicited multiple streams of input to inform the development of a revised NNI Strategic Plan. Independent reviews of the NNI by the President's Council of Advisors on Science and Technology and the National Research Council of the National Academies have made specific recommendations for improving the NNI. Additional input has come from the NNI Strategic Planning Stakeholders Workshop in Arlington, Virginia, on July 13-14, 2010 (details available online: http://www.nano.gov/html/meetings/NNISPWorkshop/index.html) as well as in responses to a Request for Information published in the Federal Register on July 6, 2010 and comments posted online in response to challenge questions from July 13-August 15, 2010, at the NNI Strategy Portal (http://strategy.nano.gov).

The NNI Strategic Plan represents the consensus of the participating agencies as to the high-level goals and priorities of the NNI and specific objectives for at least the next three years. It describes the four overarching goals of the NNI, the major Program Component Areas established in 2004 to broadly track the categories of investments needed to ensure the success of the initiative, and the near-term objectives that will be the concrete steps taken toward collectively achieving the NNI vision and goals. Finally, the plan describes collaborative interagency activities, including three Nanotechnology Signature Initiatives that are a new model of specifically targeted and closely coordinated interagency, cross-sector collaboration designed to accelerate innovation in areas of national priority.

Your comments on this draft of the plan must be received by 11:59 p.m. EST on Sunday, November 30, 2010. Please reference page and line numbers as appropriate, and keep your responses to 4,000 characters or less. You may also e-mail your responses, no more than one page in length, to nnistrategy@ostp.gov.

Responses to this notice are not offers and cannot be accepted by the Federal Government to form a binding contract or issue a grant. Information obtained as a result of this notice may be used by the Federal Government for program planning on a non-attribution basis. Do not include any information that might be considered proprietary or confidential. Please be aware that your comments may be posted online.

FOR FURTHER INFORMATION CONTACT: Any questions about the content of this notice should be sent to NNIStrategy@ostp.gov. Questions and responses may also be sent by mail (please allow additional time for processing) to the address: Office of Science and Technology Policy, ATTN: NNI Strategic Plan Comments, Executive Office of the President, 725 17th Street, Room 5228, Washington, DC 20502. Phone: (202) 456-7116, Fax: (202) 456-6021.

Ted Wackler,
Deputy Chief of Staff.

[FR Doc. 2010-27358 Filed 10-29-10; 8:45 am]

BILLING CODE 3170-W0-P